DEPARTMENT OF ENERGY

Federal Energy Regulatory Commission

Sunshine Act Meeting

October 18, 2000.

The following notice of meeting is published pursuant to Section 3(a) of the Government in the Sunshine Act (Pub. L. No. 94-409), 5 U.S.C. 552b:

AGENCY HOLDING MEETING: Federal Energy Regulatory Commission.

DATE AND TIME: October 25, 2000 (Following Regular Commission Meeting).

PLACE: Room 2C 888 First Street, N.E. Washington, DC 20426.

STATUS: Closed.

MATTERS TO BE CONSIDERED: Docket No. IN01-1-000, Columbia Gas Transmission Corporation, Columbia Gulf Transmission Company, Columbia Energy Services Corporation.

CONTACT PERSON FOR MORE INFORMATION: David P. Boergers, Secretary, Telephone (202) 208-0400.

David P. Boergers,
Secretary.

[FR Doc. 00-27252 Filed 10-19-00; 12:38 pm]

BILLING CODE 6717-01-M